DEPARTMENT OF STATE

[Public Notice: 12844; No. 2025-09]

Determination Pursuant to the Foreign Missions Act

Pursuant to the authority vested in the Secretary of State under the Foreign Missions Act, 22 U.S.C. 4301, et seq. (“the Act”), and delegated pursuant to Department of State Delegation of Authority No. 214 of September 20, 1994, I hereby determine it is reasonably necessary to achieve one or more of the purposes set forth in section 204(b) of the Act (22 U.S.C. 4304(b)) to require Alexandre Padilha and accompanying family members to obtain approval from the Department of State's Office of Foreign Missions prior to any travel beyond five blocks from their lodgings in New York City or beyond the routes allowing access to the point of entry, their lodgings, the United Nations Headquarters District, the Permanent Mission of Brazil to the United Nations, the residence of the Permanent Representative of Brazil to the United Nations, and facilities necessary to provide emergency medical care and to comply with any other requirements as may be established by the Director or Deputy Director of the Office of Foreign Missions with respect to geographical limitations on travel within the United States.

Clifton C. Seagroves,
Acting Director, Office of Foreign Missions, U.S. Department of State.

[FR Doc. 2025-19077 Filed 9-30-25; 8:45 am]

BILLING CODE 4711-07-P